DEPARTMENT OF TRANSPORTATION

Federal Aviation Administration

Public Notice for Waiver of Aeronautical Land Use Assurance Friday Harbor Airport, Friday Harbor, WA

AGENCY: Federal Aviation Administration, (FAA), DOT.

ACTION: Notice.

SUMMARY: Notice is being given that the FAA is considering a request from the Port of Friday Harbor Executive Director to change certain portions of the airport from aeronautical use to non-aeronautical use at the Friday Harbor Airport, Friday Harbor, WA. The request consists of 24 parcels, or portions thereof that are depicted on the Airport's current Exhibit A—Airport Property Map.

DATES: Comments are due within 30 days of the date of the publication of this notice in the Federal Register. Written comments can be provided to Ms. Cayla D. Morgan, Environmental Protection Specialist, Seattle Airports District Office, 2220 S 216th Street, Des Moines, WA 98198, (206) 231-4130.

FOR FURTHER INFORMATION CONTACT: Mr. Todd Nicholson, Executive Director, Port of Friday Harbor, P.O. Box 889, Friday Harbor, Washington 98250 or Ms. Cayla D. Morgan, Environmental Protection Specialist, Seattle Airports District Office, 2220 S 216th Street, Des Moines, WA 98198, (206) 231-4130. Documents reflecting this FAA action may be reviewed at the above locations.

SUPPLEMENTARY INFORMATION: Under the provisions of Title 49, U.S.C. 47153(c), and 47107(h)(2), the FAA is considering a proposal from the Executive Director, Port of Friday Harbor, to change a portion of the Friday Harbor Airport from aeronautical use to non-aeronautical use. A total of 24 parcels were included in the request. The FAA has reviewed the request and determined that all of the parcels or portions thereof in the request package except for parcels 44, 55 and 57 can be released from aeronautical use. The FAA concurs that the other parcels in the package are no longer needed for aeronautical purposes or are otherwise inaccessible by aircraft. The land will remain under the Port of Friday Harbor ownership and will be leased at fair market value for non-aeronautical revenue generation. The revenue will support the Airports aviation needs, including upcoming projects associated with the pending B-II classification.

The proposed use of this property is considered compatible with other airport operations in accordance with FAA's Policy and Procedures Concerning the Use of Airport Revenue, published in Federal Register on February 16, 1999.

Issued in Des Moines, Washington on April 23, 2020.
Joelle Briggs,
Manager, Seattle Airports District Office, Manager, Seattle Airports District, SEA-630.

[FR Doc. 2020-09025 Filed 4-28-20; 8:45 am]

BILLING CODE 4910-13-P